DEPARTMENT OF THE INTERIOR

Office of the Secretary

[XXXD5198NI DS61100000 DNINR0000.000000 DX61104]

Notice of Teleconference Meeting of the Exxon Valdez Oil Spill Public Advisory Committee

AGENCY: Office of the Secretary, Interior.

ACTION: Meeting notice.

SUMMARY: In accordance with the Federal Advisory Committee Act, the Department of the Interior, Office of the Secretary is announcing that the Exxon Valdez Oil Spill (EVOS) Trustee Council's Public Advisory Committee will meet by teleconference as noted below.

DATES: The teleconference meeting will be held on Monday, June 15, 2020, beginning at 1:00 p.m. AKST.

ADDRESSES: The meeting will be telephonic only. The public may dial into the meeting by calling 1-800-315-6338 and using access code: 72241.

FOR FURTHER INFORMATION CONTACT: Dr. Philip Johnson, Department of the Interior, Office of Environmental Policy and Compliance, telephone number: (907) 271-5011; email: Philip_johnson@ios.doi.gov.

SUPPLEMENTARY INFORMATION: The EVOS Public Advisory Committee was created pursuant to Paragraph V.A.4 of the Memorandum of Agreement and Consent Decree entered into by the United States of America and the State of Alaska on August 27, 1991, and approved by the United States District Court for the District of Alaska in settlement of United States of America v. State of Alaska, Civil Action No. A91-081 CV.

The EVOS Public Advisory Committee teleconference agenda will include a review of the draft Fiscal Year 2022-2031 Invitation for Proposals. An opportunity for public comments will be provided. The final agenda and materials for the meeting will be posted on the EVOS Trustee Council website at least 15 calendar days prior to the meeting at www.evostc.state.ak.us. All EVOS Public Advisory Committee meetings are open to the public.

Public Input

Submitting Written Information or Questions

Interested members of the public may submit relevant information or questions for the Committee to consider during the public meeting. Written statements must be received no later than June 10, 2020, so that the information may be made available to the Committee for their consideration prior to this meeting. Written statements must be sent to Dr. Philip Johnson (c/o of EVOS Trustee Council, 4230 University Drive, Suite 220, Anchorage, AK 99508) in the following formats: One hard copy with original signature and/or one electronic copy via email (acceptable file formats are Adobe Acrobat PDF, MS Word, MS PowerPoint, or rich text file). You may submit a copy of oral statement or expanded statement, or to submit a written statement because time constraints prevented presentation during the teleconference up to 30 days after the teleconference date.

Public Disclosure of Comments

Before including your address, phone number, email address, or other personal identifying information in your comments, please be aware that your entire comment, including your personal identifying information, may be made publicly available at any time. While you can ask us in your comment to withhold your personal identifying information from public review, we cannot guarantee that we will be able to do so.

Authority: 5 U.S.C. Appendix 2.

Philip Johnson,
Regional Environmental Officer, Office of Environmental Policy and Compliance.

[FR Doc. 2020-10800 Filed 5-19-20; 8:45 am]

BILLING CODE 4334-63-P